DEPARTMENT OF HEALTH AND HUMAN SERVICES

National Institutes of Health

National Institute on Alcohol Abuse and Alcoholism; Notice of Closed Meetings

Pursuant to section 10(d) of the Federal Advisory Committee Act, as amended (5 U.S.C. App.), notice is hereby given of the following meetings.

The meetings will be closed to the public in accordance with the provisions set forth in sections 552b(c)(4) and 552b(c)(6), Title 5 U.S.C., as amended. The grant applications/contract proposals and the discussions could disclose confidential trade secrets or commercial property such as patentable material, and personal information concerning individuals associated with the grant applications, the disclosure of which would constitute a clearly unwarranted invasion of personal privacy.

Name of Committee: National Institute on Alcohol Abuse and Alcoholism Special Emphasis Panel, RFP NIAAA-2014-02 Preclinical Medications Screening in Alcohol Dependence Models of Alcoholism.

Date: May 29, 2014.

Time: 11:00 a.m. to 2:00 p.m.

Agenda: To review and evaluate contract proposals.

Place: NIAAA, 5635 Fishers Lane, Room 2098, Rockville, MD 20852, (Telephone Conference Call).

Contact Person: Ranga Srinivas, Ph.D., Chief, Extramural Project Review Branch National Institute on Alcohol Abuse and Alcoholism, NIH, 5365 Fishers Lane, Room 2085, Rockville, MD 20852 (301) 451-2067, srinivar@mail.nih.gov.

This notice is being published less than 15 days prior to the meeting due to the timing limitations imposed by the review and funding cycle.

Name of Committee: National Institute on Alcohol Abuse and Alcoholism, Special Emphasis Panel Review of RFA AA14-004, Research on Comparative Effectiveness and Implementation of HIV/AIDS and Alcohol Intervention.

Date: June 2, 2014.

Time: 11:00 a.m. to 3:00 p.m.

Agenda: To review and evaluate grant applications.

Place: NIAAA, 5635 Fishers Lane, Rockville, MD 20852, (Telephone Conference Call).

Contact Person: Ranga Srinivas, Ph.D., Chief, Extramural Project Review Branch, National Institute on Alcohol Abuse and Alcoholism, NIH, 5365 Fishers Lane, Room 2085, Rockville, MD 20852, (301) 451-2067, srinivar@mail.nih.gov.

This notice is being published less than 15 days prior to the meeting due to the timing limitations imposed by the review and funding cycle.

Name of Committee: National Institute on Alcohol Abuse and Alcoholism, Initial Review Group, Neuroscience Review Subcommittee (AA-4).

Date: June 10, 2014.

Time: 8:00 a.m. to 6:00 p.m.

Agenda: To review and evaluate grant applications.

Place: NIAAA, 5635 Fishers Lane, Terrace Level, Conference Center, Rockville, MD 20852.

Contact Person: Beata Buzas, Ph.D., Scientific Review Officer, National Institute on Alcohol Abuse and Alcoholism, NIH, 5365 Fishers Lane, Room 2081, Rockville, MD 20852, (301) 443-0800, bbuzas@mail.nih.gov.

Name of Committee: National Institute on Alcohol Abuse and Alcoholism, Initial Review Group, Biomedical Research Review Subcommittee (AA-1)

Date: June 10, 2014.

Time: 8:00 a.m. to 5:00 p.m.

Agenda: To review and evaluate grant applications.

Place: NIAAA, 5635 Fishers Lane, Terrace Level, Conference Center, Rockville, MD 20852.

Contact Person: Philippe Marmillot, Ph.D., Scientific Review Officer, National Institute on Alcohol Abuse and Alcoholism, NIH, 5365 Fishers Lane, Room 2019, Rockville, MD 20852, 301-443-2861, marmillotp@mail.nih.gov.

Name of Committee: National Institute on Alcohol Abuse and Alcoholism, Initial Review Group, Clinical Treatment and Health Services Research Review Subcommittee (AA-3).

Date: June 11, 2014.

Time: 8:00 a.m. to 5:00 p.m.

Agenda: To review and evaluate grant applications.

Place: NIAAA, 5635 Fishers Lane, Terrace Level, Conference Center, Rockville, MD 20852.

Contact Person: Katrina L. Foster, Ph.D., Scientific Review Officer National Institute on Alcohol Abuse and Alcoholism, NIH, 5365 Fishers Lane, Room 2019, Rockville, MD 20852 301-443-4032, katrina@mail.nih.gov.

Name of Committee: National Institute on Alcohol Abuse and Alcoholism Special Emphasis Panel, Review of NIAAA Member Conflict Application—Clinical, Treatment and Health Services Research.

Date: June 12, 2014.

Time: 11:00 a.m. to 1:00 p.m.

Agenda: To review and evaluate grant applications.

Place: NIAAA, 5635 Fishers Lane, Rockville, MD 20852, (Telephone Conference Call).

Contact Person: Ranga Srinivas, Ph.D., Chief, Extramural Project Review Branch, National Institute on Alcohol Abuse and Alcoholism, NIH, 5365 Fishers Lane, Room 2085, Rockville, MD 20852, (301) 451-2067, srinivar@mail.nih.gov.

Name of Committee: National Institute on Alcohol Abuse and Alcoholism, Initial Review Group, Epidemiology, Prevention and Behavior Research Review Subcommittee (AA-2)

Date: June 17, 2014.

Time: 8:00 a.m. to 5:00 p.m.

Agenda: To review and evaluate grant applications.

Place: NIAAA, 5635 Fishers Lane, Terrace Level, Conference Center Rockville, MD 20852.

Contact Person: Katrina L. Foster, Ph.D., Scientific Review Officer National Institute on Alcohol Abuse and Alcoholism, NIH, 5365 Fishers Lane, Room 2019, Rockville, MD 20852 301-443-4032, katrina@mail.nih.gov.

Name of Committee: National Institute on Alcohol Abuse and Alcoholism Special Emphasis Panel, Mechanisms of Behavior Change in the Treatment of Alcohol Use Disorders (PAR AA-14-051, 052 & 053.

Date: June 18, 2014.

Time: 11:00 a.m. to 5:00 p.m.

Agenda: To review and evaluate grant applications.

Place: NIAAA, 5635 Fishers Lane, Rockville, MD 20852, (Telephone Conference Call).

Contact Person: Ranga Srinivas, Ph.D., Chief, Extramural Project Review Branch, National Institute on Alcohol Abuse and Alcoholism, NIH, 5365 Fishers Lane, Room 2085, Rockville, MD 20852, (301) 451-2067, srinivar@mail.nih.gov.

(Catalogue of Federal Domestic Assistance Program Nos. 93.271, Alcohol Research Career Development Awards for Scientists and Clinicians; 93.272, Alcohol National Research Service Awards for Research Training; 92.273, Alcohol Research Programs; 93.891, Alcohol Research Center Grants; 93.701, ARRA Related Biomedical Research and Research Supports Awards, National Institutes of Health, HHS).

Dated: May 15, 2014.
Melanie J. Gray,
Program Analyst, Office of Federal Advisory Committee Policy.

[FR Doc. 2014-11652 Filed 5-20-14; 8:45 am]

BILLING CODE 4140-01-P